DEPARTMENT OF THE TREASURY

Internal Revenue Service

Open Meeting of the Small Business/Self Employed—Schedule C Non-Filers Committee of the Taxpayer Advocacy Panel

AGENCY: Internal Revenue Service (IRS), Treasury.

ACTION: Notice.

SUMMARY: An open meeting of the Small Business/Self Employed—Schedule C Non-Filers Committee of the Taxpayer Advocacy Panel will be conducted in Denver, Colorado. The TAP will be discussing issues pertaining to increasing compliance and lessening the burden for Small Business/Self Employed individuals. Recommendations for IRS systemic changes will be developed.

DATES: The meeting will be held Friday, August 20 and Saturday, August 21, 2004.

FOR FURTHER INFORMATION CONTACT: Marisa Knispel at 1-888-912-1227 or 718-488-3557.

SUPPLEMENTARY INFORMATION: Notice is hereby given pursuant to Section 10(a)(2) of the Federal Advisory Committee Act, 5 U.S.C. App. (1988) that an open meeting of the Small Business/Self Employed—Schedule C Non-Filers Committee of the Taxpayer Advocacy Panel will be held Friday, August 20, 2004 from 9 a.m. MT to 5 p.m. MT and Saturday, August 21, 2004 from 8 a.m. MT to 12 p.m. MT at the Dominion Plaza Building, 600 17th Street, Denver, CO 80202. Individual comments are welcome and limited to 5 minutes per person. For more information and to confirm attendance, notification of intent to attend the meeting must be made with Marisa Knispel. Mrs. Knispel may be reached at 1-888-912-1227 or 718-488-3557. If you would like to have the TAP consider a written statement, please write to Marisa Knispel, TAP Office, 10 Metro Tech Center, 625 Fulton Street, Brooklyn, NY 11201, or you may post your comments to the Web site: http://www.improveirs.org.

The agenda will include the following: Various IRS issues.

Dated: July 22, 2004.
Bernard E. Coston,
Director, Taxpayer Advocacy Panel.

[FR Doc. 04-17084 Filed 7-26-04; 8:45 am]

BILLING CODE 4830-01-P